AGENCY FOR INTERNATIONAL DEVELOPMENT

Board for International Food and Agricultural Development; One Hundred and Fifty-Eighth Meeting

Notice of Meeting

Pursuant to the Federal Advisory Committee Act, notice is hereby given of the one hundred and fifty-eighth meeting of the Board for International Food and Agricultural Development (BIFAD). The meeting will be held from 8:30 a.m. to 4 p.m. on October 13, 2009 at the Des Moines Marriott Downtown located at 700 Grand Avenue, Des Moines, Iowa. The meeting venue is in the Marriott Hotel's Iowa Ballroom, Salons A, B, and C located on the second floor. “Higher Education: A Critical Partner in Global Agricultural Development” will be the central theme of BIFAD's initiatives and the October meeting.

Dr. Robert Easter, Chairman of BIFAD, will preside over the proceedings. Dr. Easter is Interim Provost and Vice Chancellor for Academic Affairs, University of Illinois at Urbana-Champaign.

With the passing of Dr. Norman Borlaug on September 12, 2009 it is most fitting that Food Security remains the central focus of BIFAD's Agenda for its 158th meeting. The Board, working closely in tandem with USAID, continues to seek ways to enhance and systematize agricultural development oriented university relationships with USAID. Within this context is the recognition that only through broad-based partnerships and multidisciplinary approaches will the US achieve priority foreign assistance goals in a dramatically changed development world. It is in the sprit of the Title XII mandates and in view of today's development realities, underpinned by complex socio-economic conditions and regional conflicts that BIFAD is leading as a “gateway” to the university community.

In tribute to one of the world's greatest and most humble plant scientists who labored to provide food to those in most need and because he saw food as a moral right the BIFAD will open its 158th meeting with a special tribute in his memory. Likewise the BIFAD will present a special Resolution to honor Dr. Norman E. Borlaug. The special tribute will be presented by Allen C. Christensen, past Board member and Director of the Benson Agricultural and Food Institute.

Fred Cholick, Dean and Director, College of Agriculture, Kansas State University will lead the morning's first technical session. He will present a report on the findings and recommendations coming from the BIFAD sponsored Conference of Deans (COD II). The COD II was held on June 28 and 29, 2009 in Washington, DC. Incorporating the USAID's priority on food security in foreign assistance, “Building a Global Food Security Strategy: The Role of Higher Education in US International Development” served as the COD II's theme. The Board will be moving forward to present the COD II results to the USAID Administrator.

At mid-morning the Board will host a dialogue on university and USAID partnership. Specifically to be addressed will be the BIFAD/USAID Strategic Partnership Memorandum of Understanding which is being developed jointly. Presenting for USAID will be Carol Grigsby, Deputy Director, Office of Development Partners, USAID. Moderating the discussion for the universities will be Jack Payne, Vice President for Extension & Outreach, Iowa State University. The objective of the MOU is to strengthen university and USAID engagement through joint activities centered around, but not limited to, food security.

Reflecting the growing reality that USAID and its partners must now implement development programs in conflict zones the Board has invited a special presentation, “Universities and Possible Role in Counter-Insurgency: New Thinking on Civil-Military Collaboration.” This presentation, a follow-on to one delivered at the Board's 157th meeting, (7/29/09) will focus on Afghanistan and how the Improvised Explosive Device (IED) must also be countered via strategic and long-term development interventions through education and agriculture. Julia Erdley, Science Advisor, Joint Improvised Explosive Device Defeat Organization (JIEDDO), the Pentagon will be presenting. This presentation is scheduled for 11 a.m. right after the morning break.

Concluding the morning session Kerry Bolognese, Vice-President, Association for Public and Land-Grant Universities (APLU) will provide a progress update on the Africa-US Higher Education Initiative. Kerry will discuss the status of the partnership plans, the recent conference in Ghana of awardees, and how the Initiative will result in building the higher education capacity of Sub-Saharan Africa, which will be critical to the regions long-term economic growth.

After an executive luncheon (closed to the public) the Board will re-convene. Scheduled as the afternoon's first session is a panel discussion, “Critical Role of Minority Serving Institutions in Today's Complex Agricultural Development Environment.” This discussion is being designed to open a new dialogue and begin exploring effective partnering with USAID. Bill DeLauder, Board member and President Emeritus, Delaware State University will be moderating the panel discussion.

Following the MSI panel Alice Pell, Professor and Provost, College of Agriculture, Cornell University, will present an update on how land-grant universities can contribute to USAID's agricultural development strategy in Afghanistan. In recent months BIFAD has been coordinating efforts with USAID's Asia Near East Bureau (ANE). Under BIFAD's lead a special symposium was held (8/19/09) discuss how land-grant universities can contribute to development in Afghanistan, including the Administration's intent to emphasize joint programming, and country level Afghan-first ownership. Experts from nine universities with Afghanistan experience met with representatives from USAID/Washington and Pakistan, the Department of State, USDA (CSREES & FAS) and NGOs.

Concluding the afternoon session the Board will hear an update and BIFAD's comments on USAID's FY 2008 Title XII Report to Congress. John Becker, Senior Policy Advisor, BIFAD Secretariat, Office of Development Partners, USAID will present the report. Also to be discussed will be the Office of Development Partners management plans to open up an early dialog with BIFAD, the universities and Congressional staff as the report is being developed.

The Board meeting is open to the public. The Board welcomes open dialogue to promote greater focus on critical issues facing USAID, the role of universities in development, and applications of U.S. scientific, technical and institutional capabilities to international agriculture. Note on Public Comments: Due to time constraints public comments to the Board will be limited to two (2) minutes to accommodate as many as possible. It is preferred to have comments submitted to the Board in writing. Two periods for public comment will be provided during the Board meeting—just before lunch and adjournment.

Those wishing to attend the meeting or obtain additional information about BIFAD should contact Dr. Ronald S. Senykoff, Executive Director and Designated Federal Officer for BIFAD. Write him in care of the U.S. Agency for International Development, Ronald Reagan Building, Office of Development Partners, 1300 Pennsylvania Avenue, NW., Room 6.7-153, Washington, DC 20523-2110 or telephone him at (202) 712-0218 or fax (202) 216-3124.

Ronald S. Senykoff,
Executive Director and USAID Designated Federal Officer for BIFAD, Office of Development Partners, U.S. Agency for International Development.

[FR Doc. E9-25143 Filed 10-19-09; 8:45 am]

BILLING CODE 6116-01-P